DEPARTMENT OF TRANSPORTATION

Federal Highway Administration

[Docket No. FHWA-2024-0001]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) for approval of a new (periodic) information collection. We published a Federal Register Notice with a 60-day public comment period on this information collection on October 18, 2023. We are required to publish this notice in the Federal Register by the Paperwork Reduction Act of 1995.

DATES: Please submit comments by February 8, 2024.

ADDRESSES: You may submit comments identified by DOT Docket ID Number 0001 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Steven Jessberger, (202) 366-5052/steven.jessberger@dot.gov; Patrick Zhang, (202) 366-1941/patrick.zhang@dot.gov, Department of Transportation, Federal Highway Administration, Office Highway Policy Information, 1200 New Jersey Avenue SE, Washington, DC 20590. Office hours are from 7 a.m. to 4 p.m., Monday through Friday, except Federal Holidays.

SUPPLEMENTARY INFORMATION:

Title: Travel Monitoring Analysis System.

OMB Control #: 2125-0587.

Background: The purpose of this document is to request OMB's three-year reinstatement for a previously approved information collection titled “Travel Monitoring Analysis System (TMAS),” covered by OMB Control No. 2125-0587. This information collection is due to expire on August 30, 2021. The Travel Monitoring Analysis System (TMAS) is the current system used to collect HVTIS information; therefore, the extension should now be titled Travel Monitoring Analysis System.

Part A. Justification

1. Circumstances That Make the Collection of Information Necessary

23 U.S.C. 150 National Goals and Performance Management Measures requires that the U.S. DOT to establish a performance management system for its Federal-aid highway program. The Federal Highway Administration (FHWA), U.S. Department of Transportation (DOT) promulgated the performance management via 23 CFR part 490: National Performance Management Measures. Traffic data, including volume (# of vehicles and travelers), class (types of vehicles), weight (weight of vehicles), and travel time (speed), are parameters the performance management program relies upon.

The FHWA is planning to continue to collect these traffic data through the TMAS system. To carry out the data collection, the FHWA will request that State Departments of Transportations (SDOTs) provide traffic volume, vehicle classification, vehicle speed, vehicle weight data, and nonmotorized data, which they collect as part of their traffic monitoring programs.

In addition, 23 CFR 1.5 and 49 CFR 1.48 provide the Federal Highway Administrator with authority to request such information deemed necessary to administer the Federal-aid highway program. Traffic data are used for assessing highway system performance under FHWA's strategic planning and performance reporting process in accordance with the requirement of the Government Performance and Results Act (GPRA, Sections 3 and 4).

Finally, both the 23 U.S.C. 503 and the 23 CFR 420.105(b) require States to provide data that support FHWA's responsibilities carrying out the Federal-aid highway program to Congress and the public.

The data to be collected will continue to be used by the FHWA and other DOT agencies to (a) manage its Federal-aid highway program through the performance management mechanism, (b) evaluate changes in vehicular and nonmotorized travel to assess impacts on highway safety, (c) analyze the role of travel in economic development and productivity, (d) assess impacts from truck travel on infrastructure demands, and (e) maintain and improve our Nation's mobility while protecting the human and natural environment.

2. How, by Whom, and for What Purpose Is the Information Used

The data submitted through TMAS will provide the amount and nature of vehicular travel at the national, regional, and state levels. The data also provide information on how vehicular travel pattern varies by hour of the day, day of the week, the month of the year, and year to year. Data submitted under the TMAS program are essential to the FHWA and the U.S. DOT in determining:

• The effectiveness of current highway programs in supporting travel demands, safety improvement, and travel reliability

• The potential of possible modifications to the Federal-aid highway program, and

• The need for new programs

• The adequacy of the U.S. DOT Strategic Goals in areas of:

i. Safety exposures: providing accurate and detailed exposure information related to travel and especially the roles of different vehicles in the same traffic stream

ii. Mobility: providing data on the relative usage of system capacity by various vehicles by time of day and the associated share of congestion that may be implicit in such travel

iii. Productivity: providing data necessary to estimate the tonnage of goods and number of people being moved by time of day, and season of the year over the various highway systems and

iv. Human and Natural Environment: providing data needed for the highway noise and air quality effect assessments.

State highway agencies use the traffic data for project and program level applications such as geometric design, pavement design, safety analysis, overweight and oversize vehicle permitting, designating truck routes, estimating trends in freight movement, highway noise abatement needs assessment.

In addition to the usage by the Federal and State governmental agencies, institutions of higher learning, industry, consultants, professional organizations, and the public are using the data for research and education, business development, and general information.

3. Extent of Automated Information Collection

All data for the TMAS will be submitted electronically to the FHWA by all State highway and some local agencies, including the District of Columbia and Puerto Rico Departments of Transportation. Reliance on electronic reporting is responsive to limited staff resources at both the local, State and Federal levels. With the unlimited data upload file size, online electronic submission reduces burden to all respondents.

The collected data will be further inserted into a Geographical Information System by the FHWA in order to support the analysis of point-specific vehicle travel data on a network basis. This is expected to allow:

• Correlation of pavement loadings generated by vehicles to data in other FHWA systems that report pavement condition;

• Major truck and interregional passenger corridors will be more readily identifiable among the links comprising the Nation's highway network, and;

• Weather, natural disaster and other geographically related phenomena can be more readily related to associated changes in travel patterns

All data summarization, processing, and editing are fully automated. The TMAS is supported by various software browsers for use by the local, States and FHWA staff in order to report, edit and summarize the collected data.

Respondents: State Departments of Transportation Agencies and Metropolitan Planning Organizations and Local Agencies responsible for submitting traffic data (both motorized and micromobility) to FHWA.

Frequency: All data for the TMAS will be submitted electronically monthly to the FHWA by all State highway and some local agencies, including the District of Columbia and Puerto Rico Departments of Transportation. Reliance on electronic reporting is responsive to limited staff resources at both the local, State and Federal levels. With the unlimited data upload file size, online electronic submission reduces burden to all respondents.

The collected data will be further inserted into a Geographical Information System by the FHWA in order to support the analysis of point-specific vehicle travel data on a network basis. This is expected to allow:

• Correlation of pavement loadings generated by vehicles to data in other FHWA systems that report pavement condition;

• Major truck and interregional passenger corridors will be more readily identifiable among the links comprising the Nation's highway network, and;

• Weather, natural disaster and other geographically related phenomena can be more readily related to associated changes in travel patterns

All data summarization, processing, and editing are fully automated. The TMAS is supported by various software browsers for use by the local, States and FHWA staff in order to report, edit and summarize the collected data.

Estimated Average Burden per Response: FHWA estimates that the average State DOT operates 60 continuous vehicle classification installations, and 15 weigh-in-motion sites. State highway agencies have established their Traffic Monitoring System (TMS) under the Intermodal Surface Transportation Efficiency Act, Transportation Equity Act for the 21st Century, and the Safe, Accountable, Flexible, Efficient Transportation Equity Act: A Legacy for Users. The data collection burden relevant for this notice is the additional burden for each State to provide a copy of its traffic data per data formats specified in the FHWA Traffic Monitoring Guide. Automation and online tools continue to be developed and improved in support of the TMAS and the capability now exists for online submission and validation of volume, speed, classification and weight data. The combined burden for the monthly report is estimated to be 50 hours per respondent. The estimated total burden for all States, the District of Columbia, and Puerto Rico are 2,600 hours.

Salary costs associated with burden hours are estimated at an average of $35.50 per hour for the technical specialists dealing with the TMAS data types. The hourly rate is taken from Table 452 of the 2007 Statistical Abstract of the United States Census Bureau. These costs are calculated as follows: $35.50 × 2,600 hours = $92,300.

Estimated Total Annual Burden Hours
Data type | Reportings per year per site | Average hours per response | Hours per year per state
Site Description | 1 | 2 | 2
Vehicle Classification | 12 | 1 | 12
Vehicle Speed | 12 | 1 | 12
Vehicle Weight | 12 | 1 | 12
Total Volume | 12 | 0.5 | 6
Total Nonmotorized Volume | 12 | 0.5 | 6
Total Hours per State per Year |  |  | 50

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: January 4, 2024.
Jazmyne Lewis,
Information Collection Officer.

[FR Doc. 2024-00213 Filed 1-8-24; 8:45 am]

BILLING CODE 4910-22-P